DEPARTMENT OF TRANSPORTATION

Federal Aviation Administration

14 CFR Part 39

[Docket No. FAA-2014-0515; Directorate Identifier 2014-SW-036-AD; Amendment 39-17921; AD 2014-12-51]

RIN 2120-AA64

Airworthiness Directives; Airbus Helicopters (Previously Eurocopter France)

AGENCY: Federal Aviation Administration (FAA), Department of Transportation (DOT).

ACTION: Final rule; request for comments.

SUMMARY: We are publishing a new airworthiness directive (AD) for Airbus Helicopters Model EC130B4 and EC130T2 helicopters, which was sent previously to all known U.S. owners and operators of these helicopters. This AD requires repetitively inspecting the Fenestron to tailboom junction frame (junction frame) for a crack. This AD is prompted by reports of a crack propagating through the junction frame on two EC130B4 helicopters. These actions are intended to detect a crack and to prevent failure of the junction frame, which could result in loss of the Fenestron and subsequent loss of control of the helicopter.

DATES: This AD becomes effective August 20, 2014 to all persons except those persons to whom it was made immediately effective by Emergency AD (EAD) 2014-12-51, issued on June 10, 2014, which contained the requirements of this AD.

The Director of the Federal Register approved the incorporation by reference of a certain document listed in this AD as of August 20, 2014.

We must receive comments on this AD by October 6, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On June 10, 2014, we issued EAD 2014-12-51, which applies to helicopters with 690 or more hours time-in-service (TIS), and requires within 10 hours TIS, dye-penetrant inspecting certain areas of the junction frame for a crack. EAD 2014-12-51 also requires, at intervals not exceeding 25 hours TIS, either repeating the dye-penetrant inspection or performing a borescope inspection of certain areas of the junction frame for a crack. If there is a crack, EAD 2014-12-51 requires replacing the junction frame. EAD 2014-12-51 was sent previously to all known U.S. owners and operators of these helicopters.

EAD 2014-12-51 was prompted by EASA EAD No. 2014-0145-E, dated June 6, 2014 (EAD 2014-0145-E). EASA, which is the Technical Agent for the Member States of the European Union, issued EAD 2014-0145-E to correct an unsafe condition for Airbus Helicopters Model EC130B4 and EC130T2 helicopters. EASA advises that following unscheduled inspections, two events of crack propagation through the junction frame of the tailboom/Fenestron were reported on EC130B4 helicopters, and that an investigation revealed the cracks initiated in the lower right-hand part of the junction frame between the web and the flange where the lower spar of the tailboom is joined. EASA also advises that the cracks were of a significant length, and were not visible from the outside of the helicopter. Finally, EASA advises that this condition, if not detected, could lead to structural failure, possibly resulting in Fenestron detachment and consequent loss of control of the helicopter. EAD 2014-0145-E requires, within 10 hours TIS or 7 days, inspecting the junction frame in the radius between the web and the flange on the tailcone side for a crack. EAD 2014-0145-E also requires, at intervals not exceeding 25 hours TIS, inspecting the frame web for a crack with a borescope. If there is a crack, the EASA AD requires contacting Airbus Helicopters for repair procedures.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Airbus Helicopters has issued Emergency Alert Service Bulletin No. 05A017, Revision 0, dated June 6, 2014 (EASB 05A017) for Model EC130B4 and EC130T2 helicopters. EASB 05A017 describes procedures for inspecting, through the inside of the tailboom, the web of the frame and in the radius between the web and the flange on the tailcone side for a crack. If there is a crack, EASB 05A017 directs operators to contact Airbus Helicopters for specific procedures to return the helicopter to conformity.

AD Requirements

This AD requires, for helicopters with 690 or more hours TIS:

• Within 10 hours TIS, removing the horizontal stabilizer, cleaning the junction frame, and dye-penetrant inspecting the junction frame for a crack in the areas shown in Figure 1 of EASB 05A017;

• Within 25 hours of the dye-penetrant inspection, and at intervals not exceeding 25 hours TIS, either repeating the dye-penetrant inspection or, using a borescope, inspecting the junction frame for a crack in the areas shown in Figure 2 of EASB 05A017.

• If there is a crack, this AD requires, before further flight, replacing the junction frame.

Differences Between This AD and the EASA AD

EAD 2014-0145-E allows a visual inspection for the initial 10 hour TIS inspection, while this AD requires a dye-penetrant inspection. If there is a crack, EAD 2014-0145-E requires contacting Airbus Helicopters for approved repair instructions, while this AD requires replacing the junction frame. Finally, EAD 2014-0145-E requires inspecting the junction frame within 10 hours TIS or 7 days, whichever occurs earlier, while this AD requires inspecting within 10 hours TIS.

Interim Action

We consider this EAD to be an interim action. If final action is later identified, we might consider further rulemaking then.

Costs of Compliance

We estimate that this AD will affect 194 helicopters of U.S. Registry. We estimate that operators may incur the following costs in order to comply with this AD. At an average labor rate of $85 per hour, dye-penetrant inspecting the junction frame will require 1 work-hour, for a cost per helicopter of $85, and a total cost of $16,490 for the fleet, per inspection cycle. Borescope inspecting the junction frame will require .5 work-hour, for a cost per helicopter of $43 and a total cost of $8,342 for the fleet, per inspection cycle.

If required, replacing the junction frame will require 50 work-hours, and required parts will cost $60,000, for a cost per helicopter of $64,250.

FAA's Justification and Determination of the Effective Date

Providing an opportunity for public comments before adopting these AD requirements would delay implementing the safety actions needed to correct this known unsafe condition. Therefore, we found and continue to find that the risk to the flying public justifies waiving notice and comment prior to adopting this rule because the initial required corrective action must be done within 10 hours time-in-service, a very short time period based on the average flight-hour utilization rate of these helicopters.

Since it was found that immediate corrective action was required, notice and opportunity for prior public comment before issuing this AD were impracticable and contrary to the public interest and that good cause existed to make the AD effective immediately by EAD 2014-12-51, issued on June 10, 2014, to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-12-51 Airbus Helicopters (previously Eurocopter France): Amendment 39-17921; Docket No. FAA-2014-0515; Directorate Identifier 2014-SW-036-AD.

(a) Applicability

This AD applies to Airbus Helicopters Model EC130B4 and EC130T2 helicopters, with 690 or more hours time-in-service (TIS), certificated in any category.

(b) Unsafe Condition

This AD defines the unsafe condition as a crack in the tailboom to Fenestron junction frame (junction frame). This condition could result in failure of the junction frame, which could result in loss of the Fenestron and subsequent loss of control of the helicopter.

(c) Effective Date

This AD becomes effective August 20, 2014 to all persons except those persons to whom it was made immediately effective by Emergency AD 2014-12-51, issued on June 10, 2014, which contained the requirements of this AD.

(d) Compliance

You are responsible for performing each action required by this AD within the specified compliance time unless it has already been accomplished prior to that time.

(e) Required Actions

(1) Within 10 hours TIS, remove the horizontal stabilizer, clean the junction frame, and dye-penetrant inspect around the circumference of the junction frame for a crack in the areas shown in Figure 1 of Airbus Helicopters EC130 Emergency Alert Service Bulletin No. 05A017, Revision 0, dated June 6, 2014 (EASB 05A017). Pay particular attention to the area around the 4 spars (item b) of Figure 1 of EASB 05A017. An example of a crack is shown in Figure 3 of EASB 05A017.

(2) Within 25 hours TIS of the inspection required by paragraph (e)(1) of this AD, and thereafter at intervals not exceeding 25 hours TIS, either perform the actions of paragraph (e)(1) of this AD or, if the area is clean, using a borescope, inspect around the circumference of the junction frame for a crack in the areas shown in Figure 2 of EASB 05A017. Pay particular attention to the area around the 4 spars (item b) of Figure 2 of EASB 05A017. An example of a crack is shown in Figure 3 of EASB 05A017.

(3) If there is a crack, before further flight, replace the junction frame.

(f) Special Flight Permits

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency EAD No. 2014-0145-E, dated June 6, 2014. You may view the EASA AD on the Internet at http://www.regulations.gov in Docket No. FAA-2014-0515.

(i) Subject

Joint Aircraft Service Component (JASC) Code: 5302: Rotorcraft Tailboom.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Helicopters Emergency Alert Service Bulletin No. 05A017, Revision 0, dated June 6, 2014.

(ii) [Reserved]

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may also view this service information that is incorporated by reference at the National Archives and Records Administration (NARA). For information on the availability of this material at NARA, call (202) 741-6030, or go to: http://www.archives.gov/federal-register/cfr/ibr-locations.html.

Issued in Fort Worth, Texas, on July 24, 2014.
Lance T. Gant,
Acting Directorate Manager, Rotorcraft Directorate, Aircraft Certification Service.

[FR Doc. 2014-18247 Filed 8-4-14; 8:45 am]

BILLING CODE 4910-13-P